DEPARTMENT OF DEFENSE

Office of the Secretary

[Transmittal No. 19-43]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-43 with attached Policy Justification and Sensitivity of Technology.

Dated: December 17, 2019.
Aaron T. Siegel,
Alternate OSD Federal Register Liaison Officer, Department of Defense.

BILLING CODE 5001-06-P

BILLING CODE 5001-06-C

Transmittal No. 19-43

Notice of Proposed Issuance of Letter of Offer Pursuant to Section 36(b)(1) of the Arms Export Control Act, as amended

(i) Prospective Purchaser: Republic of Korea

(ii) Total Estimated Value:

Major Defense Equipment * | $610 million
Other | $190 million
TOTAL | $800 million

(iii) Description and Quantity or Quantities of Articles or Services under Consideration for Purchase:

Major Defense Equipment (MDE):

Twelve (12) MH-60R Multi-Mission Helicopters, equipped with the following:

Thirteen (13) APS-153(V) Multi-Mode Radars (12 installed, 1 spare)

Twenty-five (25) T-700-GE-401C Engines (24 installed, 1 spare)

Twelve (12) Airborne Low Frequency Sonar Systems (ALFS) (12 installed)

Thirteen (13) AN/AAS-44C(V) Multi-Spectral Targeting Systems (12 installed, 1 spare)

Twenty-four (24) Embedded Global Positioning System/Inertial Navigation Systems (EGI) with Selective Availability/Anti-Spoofing Module (SAASM) (24 installed)

Twelve (12) Link 16 Multifunctional Information Distribution Systems - Low Volume Terminals (MIDS-LVT) Block Upgrade Two Terminals

Four (4) M-240D Crew Served Guns

Four (4) GAU-21 Crew Served Guns

One thousand (1,000) AN/SSQ-36/53/62 Sonobuoys

Non-MDE:

Also included are twenty-four (24) AN/ARC-210 RT-1990A(C) radios with Communications Security (COMSEC); twenty (20) AN/ARC-220 High Frequency radios; twenty (20) AN/APX-123 Identification Friend or Foe (IFF) transponders; spare engine containers; facilities study; design and construction; spare and repair parts; support and test equipment; communications equipment; ferry support; publications and technical documentation; personnel training and training equipment; U.S. Government and contractor engineering, technical, and logistics support services; and other related elements of logistics and program support.

(iv) Military Department: Navy (KS-P-SEL)

(v) Prior Related Cases, if any: None

(vi) Sales Commission, Fee, etc., Paid, Offered, or Agreed to be Paid: None

(vii) Sensitivity of Technology Contained in the Defense Article or Defense Services Proposed to be Sold: See Annex Attached

(viii) Date Report Delivered to Congress: August 7, 2019

* As defined in Section 47(6) of the Arms Export Control Act.

POLICY JUSTIFICATION

Republic of Korea—MH-60R Multi-Mission Helicopters with Support

The Republic of Korea has requested to buy twelve (12) MH-60R Multi-Mission Helicopters, equipped with the following: thirteen (13) APS-153(V) Multi-Mode Radars (12 installed, 1 spare); twenty-five (25) T-700-GE-401C Engines (24 installed, 1 spare); twelve (12) Airborne Low Frequency Sonar Systems (ALFS) (12 installed); thirteen (13) AN/AAS-44C(V) Multi-Spectral Targeting Systems (12 installed, 1 spare); twenty-four (24) Embedded Global Positioning System/Inertial Navigation Systems (EGI) with Selective Availability/Anti-Spoofing Module (SAASM) (24 installed); twelve (12) Link 16 Multifunctional Information Distribution Systems - Low Volume Terminals (MIDS-LVT) Block Upgrade Two Terminals; four (4) M-240D crew served guns; four (4) GAU-21 crew served guns; and one thousand (1,000) AN/SSQ-36/53/62 sonobuoys. Also included are twenty-four (24) AN/ARC-210 RT-1990A(C) radios with Communications Security (COMSEC); twenty (20) AN/ARC-220 High Frequency radios; twenty (20) AN/APX-123 Identification Friend or Foe (IFF) transponders; spare engine containers; facilities study; design and construction; spare and repair parts; support and test equipment; communications equipment; ferry support; publications and technical documentation; personnel training and training equipment; U.S. Government and contractor engineering, technical, and logistics support services; and other related elements of logistics and program support. The total estimated program cost is $800 million.

This proposed sale will support the foreign policy and national security objectives of the United States by meeting the legitimate security and defense needs of one of the closest allies in the INDOPACOM Theater. The Republic of Korea is one of the major political and economic powers in East Asia and the Western Pacific and a key partner of the United States in ensuring peace and stability in that region. It is vital to U.S. national interests to assist the Republic of Korea in developing and maintaining a strong and ready self-defense capability.

The proposed sale will improve the Republic of Korea Navy's capability to perform anti-surface and anti-submarine warfare missions, along with the ability to perform secondary missions including vertical replenishment, search and rescue, and communications relay. The Republic of Korea will use the enhanced capability as a deterrent to regional threats and to strengthen its homeland defense. The Republic of Korea will have no difficulty absorbing these helicopters and support into its armed forces.

The proposed sale of this equipment and support will not alter the basic military balance in the region.

The prime contractor will be Lockheed Martin Rotary and Mission Systems, Owego, New York. There are no known offset agreements proposed in connection with this potential sale. Any offset agreement required by the Republic of Korea will be defined in negotiations between the purchaser and the contractor.

Implementation of the proposed sale will require approximately two U.S. contractors to be assigned in country to support the program. However, U.S. Government engineering and technical services may be required on an interim basis for training and technical assistance.

There will be no adverse impact on U.S. defense readiness as a result of this proposed sale.

Transmittal No. 19-43

Notice of Proposed Issuance of Letter of Offer Pursuant to Section 36(b)(1) of the Arms Export Control Act

Annex

Item No. vii

(vii) Sensitivity of Technology:

1. The MH-60R Multi-Mission Helicopter focuses primarily on anti-submarine and anti-surface warfare missions. The MH-60R carries several sensors and data links to enhance its ability to work in a network-centric battle group and as an extension of its home ship/main operating base. The mission equipment subsystem consists of the following sensors and subsystems: an acoustics systems consisting of a dipping sonar and sonobuoys, Multi-Mode Radar (MMR) with integral Identification Friend or Foe (IFF) interrogator, Radios with COMSEC, Electronic Support Measures (ESM), Integrated Self-Defense (ISD), and Multi-Spectral Targeting System (MTS). The aircraft processes sensor data onboard and transmits data via Common Data Link (CDL) (also referred to as Hawklink). The aircraft is night vision compatible. It can carry AGM-114A/B/K/N Hellfire missiles, as well as MK 46/54 torpedoes to engage surface and sub-surface targets. The Republic of Korea Navy MH-60R platform will include provisions for the MK 54 lightweight torpedo. The MH-60R weapons system is classified up to SECRET. Unless otherwise noted below, MH-60R hardware and support equipment, test equipment and maintenance spares are unclassified except when electrical power is applied to hardware containing volatile data storage. Technical data and documentation for MH-60R weapons systems (to include sub-systems and weapons listed below) are classified up to SECRET. The sensitive technologies include:

a. Communications security devices contain sensitive encryption algorithms and keying material. The purchasing country has previously been released and utilizes COMSEC devices in accordance with set procedures and without issue. COMSEC devices will be classified up to SECRET when keys are loaded.

b. Identification Friend or Foe (IFF) (KIV-78) contains embedded security devices containing sensitive encryption algorithms and keying material. The purchasing country will utilize COMSEC devices in accordance with set procedures. The AN/APX-123 is classified up to SECRET.

c. GPS/PPS/SAASM - Global Positioning System (GPS) provides a space-based Global Navigation Satellite System (GNSS) that has reliable location and time information in all weather and at all times and anywhere on or near the earth when and where there is an unobstructed line of sight to four or more GPS satellites. Selective Availability/Anti-Spoofing Module (SAASM) (AN/PSN-11) is used by military GPS receivers to allow decryption of precision GPS coordinates. In addition, the GPS Antenna System (GAS-1) provides protection from enemy manipulation of the GPS system. The GPS hardware is UNCLASSIFIED. When electrical power is applied, the system is classified up to SECRET.

d. Acoustics algorithms are used to process dipping sonar and sonobuoy data for target tracking and for the Acoustics Mission Planner (AMP), which is a tactical aid employed to optimize the deployment of sonobuoys and the dipping sonar. Acoustics hardware is UNCLASSIFIED. The acoustics system is classified up to SECRET when environmental and threat databases are loaded and/or the system is processing acoustic data.

e. The AN/APS-153 multi-mode radar with an integrated IFF and Inverse Synthetic Aperture (ISAR) provides target surveillance/detection capability. The AN/APS-153 hardware is unclassified. When electrical power is applied and mission data loaded, the AN/APS-153 is classified up to SECRET.

f. The AN/ALQ-210 (ESM) system identifies the location of an emitter. The ability of the system to identify specific emitters depends on the data provided by Indian Navy. The AN/ALQ-210 hardware is UNCLASSIFIED. When electrical power is applied and mission data loaded, the AN/ALQ-210 system is classified up to SECRET.

g. The AN/AAS-44C(V) Multi-spectral Targeting System (MTS) operates in day/night and adverse weather conditions. Imagery is provided by a Forward Looking Infrared (FLIR) sensor, a color/monochrome day television (DTV) camera, and a Low-Light TV (LLTV). The AN/AAS-44C(V) hardware is UNCLASSIFIED. When electrical power is applied, the AN/AAS-44C(V) is classified up to SECRET.

h. Ultra High Frequency/Very High Frequency (UHF/VHF) Radios (ARC-210) contain embedded sensitive encryption algorithms and keying material. The purchasing country will utilize COMSEC devices in accordance with set procedures. The ARC-210 hardware is UNCLASSIFIED. When electrical power is applied and mission data loaded, the ARC-210 is classified up to SECRET.

i. Advanced Data Transfer System (ADTS) with Type 1 encryption for data at rest.

j. Satellite Communications Demand Assigned Multiple Access (SATCOM DAMA), which provides increased, interoperable communications capabilities with US forces. SATCOM DAMA hardware is UNCLASSIFIED. When electrical power is applied and mission data loaded these systems are classified up to SECRET.

2. All the mission data, including sensitive parameters, is loaded from an off board station before each flight and does not stay with the aircraft after electrical power has been removed. Sensitive technologies are protected as defined in the program protection and anti-tamper plans. The mission data and off board station are classified up to SECRET.

3. If a technologically advanced adversary were to obtain knowledge of the hardware and software elements, the information could be used to develop countermeasures or equivalent systems, which might reduce system effectiveness or be used in the development of a system with similar or advanced capabilities.

4. A determination has been made that the Republic of Korea can provide substantially the same degree of protection for the sensitive technology being released as the U.S. Government. This sale is necessary in furtherance of the U.S. foreign policy and national security objectives outlined in the Policy Justification.

5. All defense articles and services listed in this transmittal have been authorized for release and export to the Republic of Korea.

[FR Doc. 2019-27510 Filed 12-19-19; 8:45 am]

BILLING CODE 5001-06-P